SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995 requires federal agencies to publish a notice in the Federal Register concerning each proposed collection of information before submission to OMB, and to allow 60 days for public comment in response to the notice. This notice complies with that requirement.

DATES: Submit comments on or before October 19, 2020.

ADDRESSES: Send all comments to Jermaine Perry, Management Analyst, Office Surety Guarantees, Small Business Administration, 409 3rd Street, 6th Floor, Washington, DC 20416.

FOR FURTHER INFORMATION CONTACT: Jermaine Perry, Management Analyst, Jermaine.perry@sba.gov 202-401-8275, or Curtis B. Rich, Management Analyst, 202-205-7030, curtis.rich@sba.gov.

SUPPLEMENTARY INFORMATION: Small Business Administration Surety Bond Guarantee Program was created to encourage surety companies to provide bonding for small contractors. The information collected on the form from surety companies will be used to update the status of successfully completed contracts and to provide a final accounting of contractor and surety fees due to SBA.

Solicitation of Public Comments:

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection:

Title: Quarterly Contract Completion Report.

Description of Respondents: Surety companies.

Form Number: 2,461.

Total Estimated Annual Responses: 92.

Total Estimated Annual Hour Burden: 92.

Curtis Rich,
Management Analyst.

[FR Doc. 2020-18260 Filed 8-19-20; 8:45 am]

BILLING CODE 8026-03-P